DEPARTMENT OF DEFENSE

Department of the Air Force

Record of Decision for the F-15 Aircraft Conversion, 144th Fighter Wing, California Air National Guard, Fresno-Yosemite International Airport Final Environmental Impact Statement

ACTION: Notice of Availability (NOA) of a Record of Decision (ROD).

SUMMARY: On May 31, 2013, the United States Air Force signed the ROD for the F-15 Aircraft Conversion for the 144th Fighter Wing, California Air National Guard at Fresno-Yosemite International Airport. The ROD states the Air Force decision to implement the preferred alternative analyzed in the Environmental Impact Statement. The Preferred Alternative will convert the 144 FW from 21 F-16 aircraft [18 F-16 Primary Assigned Aircraft (PAA) and 3 Back-up Inventory Aircraft (BAI)] to 21 F-15 aircraft (18 F-15 PAA and 3 F-15 BAI aircraft).

The decision was based on matters discussed in the Final Environmental Impact Statement (EIS), inputs from the public and regulatory agencies, and other relevant factors. The Final EIS was made available to the public on March 1, 2013 through a NOA in the Federal Register (Volume 78, Number 41, Page 13874) with a wait period that ended on April 1, 2013. The ROD documents only the decision of the Air Force with respect to the proposed Air Force actions analyzed in the Final EIS. Authority: This NOA is published pursuant to the regulations (40 CFR part 1506.6) implementing the provisions of the NEPA of 1969 (42 U.S.C. 4321, et seq.) and the Air Force's Environmental Impact Analysis Process (EIAP) (32 CFR parts 989.21(b) and 989.24(b)(7))

FOR FURTHER INFORMATION CONTACT: Robert Dogan, NGB/A7AM, 3501 Fetchet Avenue, Joint Base Andrews Maryland, 20762-5157, (240) 612-8859.

Henry Williams, Jr.,
Acting Air Force Federal Register Liaison Officer.

[FR Doc. 2013-13710 Filed 6-7-13; 8:45 am]

BILLING CODE 5001-10-P